DEPARTMENT OF HOMELAND SECURITY

Transportation Security Administration

Intent To Request Approval From OMB of One New Public Collection of Information: TSA Web Site Usability Development: Focus Groups and Online Survey

AGENCY: Transportation Security Administration, DHS.

ACTION: Notice.

SUMMARY: The Transportation Security Administration (TSA) invites public comment on a new information collection requirement abstracted below that we will submit to the Office of Management and Budget (OMB) for approval in compliance with the Paperwork Reduction Act.

DATES: Send your comments by August 8, 2006.

ADDRESSES: Comments may be mailed or delivered to Katrina Wawer, Attorney-Advisor, Office of the Chief Counsel, TSA-2, Transportation Security Administration, 601 South 12th Street, Arlington, VA 22202-4220.

FOR FURTHER INFORMATION CONTACT: Katrina Wawer at the above address, or by telephone (571) 227-1995; or Yolanda Clark, Director and Chief Spokesperson, or Philip Joncas, Office of Strategic Communications and Public Information, TSA-9, Transportation Security Administration, 601 South 12th Street, Arlington, VA 22202-4220, or call (571) 227-2747.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, effectiveness, and clarity of the information to be collected; and

(4) Minimize the burden of the collection of information on those who are to respond, including using appropriate automated, electronic, mechanical, or other technological collection techniques or other forms of information technology.

Purpose of Data Collection

In order to provide a useful public Web site, TSA seeks to administer two data collections to obtain feedback concerning the usability, content, focus and satisfaction of passengers who use TSA's Web site, titled “Web site Focus Groups” and “Web site Online Survey.” TSA will use the data collected through these collection methods to deliver effective and engaging information to meet customers' needs and continuously improve TSA's Web site usability.

Description of Data Collection

TSA intends to collect data via the following instruments:

(1) Web site Focus Groups. TSA intends to conduct focus groups in a metropolitan area in each of TSA's three regions: East, Midwest, and West. TSA, through consultants, will administer the usability focus groups, one per region, by having volunteers use computers to access the TSA Web site under close supervision. Volunteers will provide both verbal and written feedback to the individuals administering the session. Participants will be selected randomly, at different travel times, from different locations, so that the sample includes individuals traveling throughout the day.

Participation will be voluntary. TSA Headquarters will supply an independent, paid consultant to lead the user focus groups. These consultants will handle the data collected during focus groups and provide TSA with analysis of the results in order to ensure the results are free of bias and present a truly accurate representation of the focus group responses. A TSA representative will be present at each focus group to monitor the consultants responsible for conducting the focus groups and synthesizing the results, and to ensure the data collection is conducted in a professional manner and follows best practices for conducting focus group research.

Focus groups will be conducted at various dates, times, and locations to provide a general representation of all customer preferences and not one particular group or subset of the population. TSA intends to conduct 15 user focus groups annually, each with a target of 10 total participant hours, based on an estimate of a 1 hour burden per respondent. TSA estimates a maximum total annual burden of 150 hours (10 participants times 15 focus group sessions equals 150 hours total). There is no burden on those who choose not to be involved in the focus groups.

(2) Web site Online Survey. TSA also will conduct voluntary Web site surveys to collect data for improved content and usability. The surveys will be available via the TSA Web site (http://www.tsa.gov). Participation by Web site users will be voluntary. TSA Headquarters will provide a list of approximately 20 approved questions, from which the TSA Web Director will configure an online survey available to Web site users who choose to provide their feedback.

Surveys will comprise an approximate five-minute burden per respondent and an aggregate burden of 34 hours per year, based on an estimated 400 online surveys voluntarily completed per year (400 surveys times 5 minutes per survey equals 2000 minutes total, which is then divided by 60 minutes, resulting in 34 hours total). There is no burden on users who choose not to participate.

Use of Results

TSA Headquarters will use the focus group and survey results to evaluate and improve Web site content and usability, both via formal, rigorous usability performance measurement, and via targeted responses to problems and areas of opportunity that are identified. TSA senior management, the TSA Web Director in the Office of Strategic Communication and Public Affairs, and the Office of the Chief Information Officer, will use the results of the Web site Focus Groups and the Web site Online Survey to create a Web site usability and utility index, i.e., a summary of performance measures. TSA will use this index to evaluate the impact of Web site content and layout as TSA makes further strides to address public demand for convenient access to information via the Web.

Issued in Arlington, Virginia, on June 5, 2006.
Peter Pietra,
Director, Privacy Policy and Compliance.

[FR Doc. E6-9020 Filed 6-8-06; 8:45 am]

BILLING CODE 9110-05-P